DEPARTMENT OF ENERGY

Federal Energy Regulatory Commission

[Docket No. CP06-5-006]

Empire State Pipeline, Empire Pipeline, Inc.; Notice of Compliance Filing

September 6, 2007.

Take notice that on August 30, 2007, Empire State Pipeline and Empire Pipeline, Inc. (Empire) tendered for filing an executed firm transportation agreement with KeySpan Gas East Corporation d/b/a KeySpan Energy Delivery Long Island (KeySpan). Empire states that it is filing the executed firm transportation agreement with KeySpan pursuant to Ordering Paragraph Z of the Commission's December 21, 2006 order in this proceeding.

Empire states that pursuant to § 388.112 of the Commission's regulations, it is requesting privileged and confidential treatment of the negotiated rate exhibit (Exhibit B) attached to the firm transportation agreement with Empire. Empire explains that because the negotiated rate exhibit is competitively sensitive and its release at this time could unnecessarily harm the competitive position of the parties, it requests that the negotiated rate exhibit be exempted from the disclosure requirements of the Freedom of Information Act. Empire indicates that in compliance with Ordering Paragraph AA of the December 21, 2006 order, it will publicly file either the negotiated rate exhibit or numbered tariff sheets containing all required information not less than 90 days prior to commencement of service.

Any person desiring to protest this filing must file in accordance with Rule 211 of the Commission's Rules of Practice and Procedure (18 CFR 385.211). Protests to this filing will be considered by the Commission in determining the appropriate action to be taken, but will not serve to make protestants parties to the proceeding. Such protests must be filed on or before the date as indicated below. Anyone filing a protest must serve a copy of that document on all the parties to the proceeding.

The Commission encourages electronic submission of protests in lieu of paper using the “eFiling” link at http://www.ferc.gov. Persons unable to file electronically should submit an original and 14 copies of the protest to the Federal Energy Regulatory Commission, 888 First Street, NE., Washington, DC 20426.

This filing is accessible on-line at http://www.ferc.gov, using the “eLibrary” link and is available for review in the Commission's Public Reference Room in Washington, DC. There is an “eSubscription” link on the Web site that enables subscribers to receive e-mail notification when a document is added to a subscribed docket(s). For assistance with any FERC Online service, please e-mail FERCOnlineSupport@ferc.gov, or call (866) 208-3676 (toll free). For TTY, call (202) 502-8659.

Comment Date: 5 p.m. Eastern Time September 19, 2007.

Kimberly D. Bose,
Secretary.

[FR Doc. E7-17969 Filed 9-11-07; 8:45 am]

BILLING CODE 6717-01-P